ENVIRONMENTAL PROTECTION AGENCY

[OPP-50891; FRL-6815-3]

Experimental Use Permit; Receipt of Application

AGENCY: Environmental Protection Agency (EPA).

ACTION: Notice.

SUMMARY: This notice announces receipt of an application 56228-EUP-O from the Animal and Plant Health Inspection Service, U.S. Department of Agriculture (USDA/APHIS) requesting an experimental use permit (EUP) for the use of sodium cyanide in M-44 Cyanide Capsules in M-44 spring-loaded ejectors to control coyotes (Canis latrans), red fox (Vulpes vulpes), gray fox (Urocyon cinereoargenteus) and wild dogs in Idaho and Utah in nesting areas of sage grouse (Centrocercus urophasianus and C. minimus). The Agency has determined that the application may be of regional and national significance. Therefore, in accordance with 40 CFR 172.11(a), the Agency is soliciting comments on this application.

DATES: Comments, identified by docket control number OPP-50891, must be received on or before January 18, 2002.

ADDRESSES: Comments and data may be submitted by mail, electronically, or in person. Please follow the detailed instructions for each method as provided in Unit I.C. of the SUPPLEMENTARY INFORMATION. To ensure proper receipt by EPA, it is imperative that you identify docket control number OPP-50891 in the subject line on the first page of your response.

FOR FURTHER INFORMATION CONTACT: By mail: William W. Jacobs, Registration Division (7505C), Office of Pesticide Programs, Environmental Protection Agency, 1200 Pennsylvania Ave., NW., Washington, DC 20460; telephone number: (703) 305-6406; and e-mail address: jacobs.bill@epa.gov.

SUPPLEMENTARY INFORMATION:

I. General Information

A. Does this Action Apply to Me?

This action is directed to the public in general. This action may, however, be of interest to those interested in programs for protecting native wildlife species of declining numbers before they are imperiled to such an extent that they are listed as threatened or endangered species. All predacidal uses of sodium cyanide were canceled in 1972. Since that time, use of the compound in M-44 capsules has been reinstated for controlling canids that prey on livestock, that prey on threatened or endangered species, or that are vectors of comminicable diseases. Use of M-44s to protect wildlife that are not yet listed as threatened or endangered has not been directly authorized. The proposed research program is intended to explore the feasibility of use of M-44s to protect sage grouse and Gunnison sage grouse and to obtain new evidence regarding the units' utility and safety when used in that capacity. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-50891. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-50891 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in Wordperfect 6.1/8.0 or ASCII file format. All comments in electronic form must be identified by docket control number OPP-50891. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice.

7. Make sure to submit your comments by the deadline in this document.

8. To ensure proper receipt by EPA, be sure to identify the docket control number assigned to this action in the subject line on the first page of your response. You may also provide the name, date, and Federal Register citation.

II. Background

In cooperation with State wildlife agencies in Idaho, Utah, and Colorado, USDA/APHIS “intends to determine whether integrated predation management including the use of M-44s is more effective for sage grouse (Centrocercus urophasianus, Centrocercus minimus) protection than predation management that does not include the use of M-44s.”

The proposed research originally was to take place in sage grouse habitat in Wayne and Garfield Counties, Utah, and in Owyhee County, Butte County, and Oneida County, Idaho. The Gunnison sage grouse reportedly occurs in the proposed study site in San Juan County, Utah. According to the application, the Gunnison (C. minimus) sage grouse only recently has been recognized as a distinct species and has been proposed for listing as threatened or endangered. Timely listing is said to have been precluded due to a shortage of relevant funding within the U.S. Fish and Wildlife Service. In submissions of July 16, 2001 and July 24, 2001, USDA/APHIS has stated that, for logistical and/or legal reasons, the study locations mentioned here may be replaced by other sites.

Predator management using M-44s and non-pesticidal methods is to be effected in an area of Gunnison sage grouse habitat in San Juan County, Utah. Control operations are to be conducted and monitored by USDA/APHIS personnel. Recruitment of Gunnison sage grouse is to be monitored in the managed areas by the Utah Division of Wildlife Resources. The Colorado Division of Wildlife is to monitor recruitment of Gunnison sage grouse in a neighboring area of Colorado where there is to be “no formal predator control program.”

Recruitment of sage grouse also is proposed to be monitored in areas subject to predator control in Wayne and Garfield Counties, Utah, and in Owyhee, Oneida, and Butte Counties, Idaho. At the Wayne, Garfield, Owyhee, and Oneida sites, two sage grouse breeding areas are to be protected by predator control methods other than M-44s while two other areas are to be protected by those same methods plus M-44s. At the Butte site, only non-chemical methods are to be used. At all sites, numbers of target and nontarget species taken by each method are to be recorded along with “the amount of time spent in the application of each management method.” Artificial nests consisting of three brown chicken eggs placed under a sage bush are to be monitored at some sites. At two Idaho sites, fates of some sage grouse are to be monitored using radio telemetry.

III. What Action is the Agency Taking?

Following the review of the USDA/APHIS application and any comments and data received in response to this notice, EPA will decide whether to issue or deny the EUP request for this EUP program, and if issued, the conditions under which it is to be conducted. Any issuance of an EUP will be announced in the Federal Register.

IV. What is the Agency's Authority for Taking this Action?

Under 40 CFR 172.11(a), EPA is required to publish in the Federal Register a notice of receipt of an EUP application if it determines that the permit “may be of regional or national significance.” The history, cancellation, and partial reinstatement of predacidal uses of sodium cyanide makes any proposed expansion of current uses potentially “of regional or national significance” as does the possible benefit of developing a pesticidal tool to assist in halting declines in populations of certain types of wildlife, thereby precluding their future listing as threatened or endangered species and perhaps keeping habitats occupied by them open for multiple use.

List of Subjects

Environmental protection, Experimental use permits.

Dated: December 6, 2001.
Peter Caulkins,
Acting Director, Registration Division, Office of Pesticide Programs.

[FR Doc. 01-31246 Filed 12-18-01; 8:45 am]

BILLING CODE 6560-50-S